DEPARTMENT OF ENERGY

Federal Energy Regulatory Commission

Combined Notice of Filings #1

Take notice that the Commission received the following exempt wholesale generator filings:

Docket Numbers: EG12-105-000.

Applicants: GenOn Marsh Landing, LLC.

Description: Self-Certification of EWG of GenOn Marsh Landing, LLC.

Filed Date: 8/29/12.

Accession Number: 20120829-5157.

Comments Due: 5 p.m. e.t. 9/19/12.

Take notice that the Commission received the following electric rate filings:

Docket Numbers: ER12-2184-001.

Applicants: Wisconsin Electric Power Company.

Description: Formula Rate Wholesale Sales Tariff revisions compliance filing to be effective 9/1/2012.

Filed Date: 8/29/12.

Accession Number: 20120830-5007.

Comments Due: 5 p.m. e.t. 9/19/12.

Docket Numbers: ER12-2543-000.

Applicants: Southern Electric Generating Company.

Description: SEGCO 2012 PBOP Filing to be effective 1/1/2012.

Filed Date: 8/29/12.

Accession Number: 20120829-5163.

Comments Due: 5 p.m. e.t. 9/19/12.

Docket Numbers: ER12-2544-000.

Applicants: Mississippi Power Company.

Description: PBOP 2012 Filing to be effective 1/1/2012.

Filed Date: 8/29/12.

Accession Number: 20120829-5169.

Comments Due: 5 p.m. e.t. 9/19/12.

Docket Numbers: ER12-2545-000.

Applicants: GenOn Marsh Landing, LLC.

Description: Application for Market-Based Rate Authorization to be effective 11/1/2012.

Filed Date: 8/29/12.

Accession Number: 20120829-5177.

Comments Due: 5 p.m. e.t. 9/19/12.

Docket Numbers: ER12-2546-000.

Applicants: Georgia Power Company.

Description: 2012 PBOP Filing to be effective 1/1/2012.

Filed Date: 8/29/12.

Accession Number: 20120829-5178.

Comments Due: 5 p.m. e.t. 9/19/12.

Docket Numbers: ER12-2547-000.

Applicants: Southern California Edison Company.

Description: GIA and Distribution Serv Agmt SunEdison Utility Solutions LLC, Philadelphia Ave to be effective 8/31/2012.12-2547 Filing Type: 10.

Filed Date: 8/30/12.

Accession Number: 20120830-5049.

Comments Due: 5 p.m. e.t. 9/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2012.
Nathaniel J. Davis, Sr.,
Deputy Secretary.

[FR Doc. 2012-22683 Filed 9-13-12; 8:45 am]

BILLING CODE 6717-01-P